DEPARTMENT OF ENERGY

Federal Energy Regulatory Commission

[Docket No. CP07-208-000]

Rockies Express Pipeline LLC; Notice of Application

May 14, 2007.

Take notice that on April 30, 2007, Rockies Express Pipeline LLC (Rockies Express), 370 Van Gordon Street, Lakewood, Colorado 80228, filed an application in Docket No. CP07-208-000, pursuant to section 7(c) of the Natural Gas Act (NGA) and Part 157 of the Commission's regulations requesting a certificate of public convenience and necessity to construct certain pipeline facilities, referred to as the REX-East Project, to extend Rockies Express' certificated system eastward from its terminus in Audrain County, Missouri to Monroe County, Ohio and to increase the transportation capacity of its system from 1,500,000 Dth per day to 1,800,000 Dth per day, all as more fully set forth in the application which is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

Specifically, Rockies Express requests authorization to construct: (1) 638 miles of 42-inch pipeline in Audrain, Ralls, and Pike Counties, Missouri; Pike, Scott, Morgan, Sangamon, Christian, Macon, Moultrie, Douglas and Edgar Counties, Illinois; Vermillion, Parke, Putnam, Hendricks, Morgan, Johnson, Shelby, Decatur, and Franklin Counties, Indiana; and Butler, Warren, Clinton, Greene, Fayette, Pickaway, Fairfield, Perry, Morgan, Muskingum, Guernsey, Noble, Belmont, and Monroe Counties, Ohio; and (2) a total of approximately 236,000 horsepower of compression at seven new compressor stations in Carbon County, Wyoming; Phelps County, Nebraska; Audrain County, Missouri; Christian County, Illinois; Putnam County, Indiana; Butler County, Ohio; and Muskingum County, Ohio.

The cost of the project is approximately $2.2 billion. Rockies Express proposes to establish a new rate zone—Zone 3—consisting of all facilities located east of the terminus of Rockies Express' certificated facilities in Audrain County, Missouri. Further, Rockies Express requests a determination of rolled-in rate treatment for certain compression facilities located in existing Zone 1 and Zone 2.

Any questions regarding this application should be directed to Robert F. Harrington, Vice President—Regulatory, Rockies Express Pipeline LLC, P.O. Box 281304, Lakewood, Colorado 80228-8304, phone (303)763-3581.

On June 13, 2006, the Commission staff granted Rockies Express' request to utilize the Commission's Pre-Filing Process and assigned Docket No. PF06-30-000 to staff activities involving the Rockies Express REX-East Project. Now, as of the filing of Rockies Express' application on April 30, 2007, the Pre-Filing Process for this project has ended. From this time forward, Rockies Express' proceeding will be conducted in Docket No. CP07-208-000, as noted in the caption of this Notice.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: June 4, 2007.

Philis J. Posey,
Deputy Secretary.

[FR Doc. E7-9663 Filed 5-18-07; 8:45 am]

BILLING CODE 6717-01-P